DEPARTMENT OF AGRICULTURE

Meeting of the Land Between The Lakes Advisory Board

AGENCY: Forest Service, USDA.

ACTION: Notice of Meeting.

SUMMARY: The Land Between The Lakes Advisory Board will hold a meeting on Thursday, August 16, 2001. Notice of this meeting is given under the Federal Advisory Committee Act, 5 U.S.C. App.2.

The meeting agenda includes the following:

(1) Welcome, Introductions, Agenda Review.

(2) Short Forest Planning Overview.

(3) Existing Environmental Education Programs.

(4) Tours of Brandon Spring Resident Center & Homeplace.

The meeting is open to the public. Written comments are invited and may be mailed to: William P. Lisowsky, Area Supervisor, Land Between The Lakes, 100 Van Morgan Drive, Golden Pond, Kentucky 42211. Written comments must be received at Land Between The Lakes by August 9, 2001, in order for copies to be provided to the members at the meeting. Board members will review written comments received, and at their request, oral clarification may be requested at a future meeting.

DATES: The meeting will be held on Thursday, August 16, 2001, 8:30 a.m. to 4:15 p.m., CDT.

ADDRESSES: The meeting will be held at the Brandon Spring Resident Center, Land Between The Lakes, and will be open to the public.

For further information contact: Sharon Byers, Advisory Board Liaison, Land Between The Lakes, 100 Van Morgan Drive, Golden Pond, Kentucky 42211, 270-924-2002.

SUPPLEMENTARY INFORMATION: There are no public eating facilities at Brandon Spring where individuals from the public can purchase lunch. However, members of the public attending the meeting are invited to bring their lunch with them to eat at Brandon. There are also public eating facilities within 7-15 miles in Dover TN. No official business will be conducted during the 45-minute lunch break.

Dated: July 18, 2001.
William P. Lisowsky,
Area Supervisor, Land Between The Lakes.

[FR Doc. 01-18370 Filed 7-23-01; 8:45 am]

BILLING CODE 3410-11-P